SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses:

(OMB), Office of Management and Budget, Attn: Desk Officer for SSA, NewExecutive Office Building, Room 10235, 725 17th St., NW., Washington, DC 20503.

(SSA), Social Security Administration, DCFAM, Attn: Reports Clearance Officer, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-0454, or by writing to the address listed above.

1. Letter to Landlord Requesting Rental Information—0960-0454

Form SSA-L5061 is used by SSA to provide a nationally uniform vehicle for collecting information from landlords in making a rental subsidy determination in the Supplemental Security Income (SSI) Program. The information is used in deciding whether income limits are met for SSI eligibility. The respondents are landlords who provide subsidized rental arrangements to SSI applicants and recipients.

Number of Respondents: 49,000.

Frequency of Response: 1.

Average Burden Per Response: 10 minutes.

Estimated Average Burden: 8,167.

2. Continuation of Full Benefit Standard for Persons Institutionalized—0960-0516

SSA is required by law to establish procedures for collecting information on whether an SSI recipient who becomes institutionalized (e.g., hospital, nursing home) may be eligible for continued benefits, based on the full federal benefit rate, if a physician certifies that he expects the period of medical confinement will last no more than 90 days. The individual (or someone acting on his behalf) must demonstrate that he needs to pay some or all of the expenses of maintaining the home to which he expects to return. The respondents are applicants for SSI benefits.

Number of Respondents: 60,000.

Frequency of Response: 1.

Average Burden Per Response: 5 minutes.

Estimated Annual Burden: 5,000 hours.

3. Inquiry To File an SSI Child's Application—0960-0557

The information collected on Form SSRO-3-293 (formerly SSA-293) is used by SSA to document the earliest possible filing date and to determine potential eligibility for SSI child's benefits. The respondents are individuals, such as hospital social workers, who inquire about SSI eligibility for low birth weight babies.

Number of Respondents: 2,100.

Frequency of Response: 1.

Average Burden Per Response: 3 minutes.

Estimated Average Burden: 105 hours.

4. Supplemental Security Income Notice of Interim Assistance Reimbursement (two forms)—0960-0546

Form SSA-8125 and SSA-L8125-F6 collect interim assistance reimbursement (IAR) information from the States that provide such assistance. Form SSA-8125 is used in situations where IAR can be distributed directly to the recipient after the State has deducted the amount of assistance it provided. Form SSA-L8125-F6 is used in situations where a recipient entitled to underpayments has received IAR from a State and SSA will control the benefit through the installment process. SSA uses the information collected through these forms for accounting and auditing purposes in administering the IAR process. The respondents are States that provide IAR to SSI claimants.

| SSA-8125 | SSA-L8125-F6
Number of Respondents | 50,000 | 50,000.
Frequency of Response | 1 | 1.
Average Burden Per Response | 10 minutes | 10 minutes.
Estimated Annual Burden | 8,333 hours | 8,333 hours.

5. National Employment Activity and Disability Survey —0960-NEW

Background

The Ticket to Work program (TTW) was established by the 1999 Ticket to Work and Work Incentives Improvement Act. The program will provide eligible Social Security Disability Insurance (SSDI) and Supplemental Security Income (SSI) disability beneficiaries with a Ticket, which can be used to obtain vocational rehabilitation (VR) or employment services through participating providers, called Employment Networks (ENs).

The reason for the TTW program is that some beneficiaries currently lack the resources necessary to return to work at a level above the Substantial Gainful Activity (SGA) level, either because they do not have easy access to such services, or because they lack the incentive to invest resources in return to work activities because of a variety of factors affecting the decision to work. TTW confers upon a beneficiary a means to access those resources in a less restrictive manner than under the traditional program. The manner in which the program is being implemented is expected to increase beneficiary demand for employment-related services and activities. It is also expected to increase the number and diversity of providers in response to the less restrictive participation requirements and increased consumer demand for services.

The National Employment Activity and Disability Survey

The National Employment Activity and Disability Survey will collect data on the work-related activities of SSI and Old Age, Survivors and Disability Insurance (OASDI) beneficiaries as the TTW program, and other initiatives designed to improve beneficiary employment outcomes, are implemented. The TTW Survey is specifically designed to be a significant resource for the formal evaluation of TTW, but SSA anticipates that the survey will provide useful information for a variety of evaluation and policy analysis purposes, especially related to current efforts that attempt to improve return to work. The survey questionnaire focuses on information about beneficiaries and their work-related activities that cannot be obtained from SSA's administrative records. The survey will provide information about: (1) Beneficiaries who assign their Tickets to ENs, and their experience in the program; (2) beneficiaries who do not assign their Tickets, and the reasons why they do not, including involuntary non-participants; (3) the employment outcomes of Ticket users and other beneficiaries; and (4) the use of employment services by Ticket users and other beneficiaries. The respondents will be selected from SSI and OASDI disabled beneficiaries who meet the Ticket to Work program eligibility requirements.

Number of Respondents: 6,557.

Frequency of Response: 1.

Average Burden Per Response: 45 minutes.

Estimated annual Burden: 4,918 hours.

6. Public Information Campaign Collections—0960-0544

SSA uses the information from public broadcasting systems to determine media interest in broadcasting SSA's public information materials. The respondents are radio and television stations.

Number of Respondents: 8,000.

Frequency of Response: 3.

Average Burden Per Response: 1 minute.

Estimated Annual Burden: 400.

7. State Mental Institution Policy Review—0960-0110

SSA uses the information collected on Form SSA-9584 to determine whether policies and practices of State mental institutions conform with SSA's regulations in the use of benefits and whether an institution is performing other duties and responsibilities required of a representative payee. The information also provides a basis for conducting an onsite review of the institution and is used in preparing the subsequent report of findings. The respondents are State mental institutions that serve as representative payees.

Number of Respondents: 125.

Frequency of Response: 1.

Average Burden Per Response: 60 minutes.

Estimated Annual Burden: 125 hours.

8. Record Of Supplemental Security Income Inquiry—0960-0140

Form SSA-3462 is completed by SSA personnel via telephone or personal interview, and it is used to determine potential eligibility for SSI benefits. The respondents are individuals who inquire about SSI eligibility for themselves or someone else.

Number of Respondents: 2,341,856.

Frequency of Response: 1.

Average Burden Per Response: 5 minutes.

Estimated Annual Burden: 195,155 hours.

II. The information collections listed below have been submitted to OMB for clearance. Your comments on the information collections would be most useful if received by OMB and SSA within 30 days from the date of this publication. You can obtain a copy of the OMB clearance package by calling the SSA Reports Clearance Officer on (410) 965-0454, or by writing to the address listed above.

1. Internet Social Security Disability Report—0960-NEW

The Social Security Act requires applicants to furnish medical and other evidence and information to prove they are disabled. Applicants for disability benefits will be given the option to provide information needed to help determine they are disabled through the Internet. The Internet Social Security Disability Report, which is similar to the Form SSA-3368-BK, Disability Report-Adult, will collect allegations of disability and gather information about the disabling condition and sources of medical evidence. Collecting this information is critical to case development and adjudication. The information on the Disability Report, together with other evidence and information, will be used by State Disability Determination Services (who make disability decisions on behalf of SSA) to develop medical evidence, assess the alleged disability, and make a determination on whether or not the applicant is disabled under the Act. SSA plans to conduct a limited pilot of the Internet Social Security Disability Report followed by national implementation. The respondents are applicants for title II and title XVI disability benefits.

Pilot Burden Hours Estimate

Number of Respondents: 8,400.

Frequency of Response: 1.

Average Burden Per Response: 2 hours.

Estimated annual Burden: 16,800 hours.

National Implementation Burden Hours Estimate

Number of Respondents: 66,000.

Frequency of Response: 1.

Average Burden Per Response: 2 hours.

Estimated annual Burden: 132,000 hours.

2. Employee Work Activity Report—0960-0483

The data collected by SSA on Form SSA-3033 is used to determine if the claimant meets the disability requirements of the law, when the claimant returns to work after the alleged or established onset date of disability. When a possible unsuccessful work attempt or nonspecific subsidy is involved, Form SSA-3033 will be used to request a description of the employee's work effort. The respondents are employers of OASDI and SSI disability applicants and beneficiaries.

Number of Respondents: 12,500.

Frequency of Response: 1.

Average Burden Per Response: 15 minutes.

Estimated Annual Burden: 3,125 hours.

Dated: May 13, 2002.
Elizabeth A. Davidson,
Reports Clearance Officer, Social Security Administration.

[FR Doc. 02-12365 Filed 5-16-02; 8:45 am]

BILLING CODE 4191-02-P